DEPARTMENT OF JUSTICE

Antitrust Division

Notice Pursuant to the National Cooperative Research and Production Act of 1993—Secure Digital Music Initiative

Notice is hereby given that, on April 24, 2001, pursuant to section 6(a) of the National Cooperative Research and Production Act of 1993, 15 U.S.C. 4301 et seq. (“the Act”), Secure Digital Music Initiative (“SDMI”) has filed written notifications simultaneously with the Attorney General and the Federal Trade Commission disclosing changes in its membership status. The notifications were filed for the purpose of extending the Act's provisions limiting the recovery of antitrust plaintiffs to actual damages under specified circumstances. Specifically, IBM, Endicott, NY; MediaMatec AG, Zuerich, SWITZERLAND; Winbond Electronics Corporation, Hsinchu, TAIWAN; J-Phone Communications, Tokyo, JAPAN; NTRU Cryptosystems, Inc., Burlington, MA; Imagination Technologies, Kings Langley, Hertfordshire, UNITED KINGDOM; MPMan.com. Inc., Seoul, REPUBLIC OF KOREA; Coding Technologies, Nuremberg. GERMANY; and SSFDC Forum, Tokyo, JAPAN have been added as parties to this venture. Also, Aegisoft Corporation, Rockville, MD; AMP3.com/JVWeb, New York, NY; Audio Matrix, New York, NY; BreakerTech, Beaconsfield, Berkshire, UNITED KINGDOM; CDWorld Corporation, New York, NY; C-ONE TECH Co., Ltd., Seoul, REPUBLIC OF KOREA; Comverse Technology, Tel-Aviv, ISRAEL; Digital Media on Demand, Allston, MA; Encoding.com/Loudeye Technologies, Seattle, WA; Guillemot, Carentoir, FRANCE; I2GO.COM, Atlanta, GA; J.River, Inc., Minneapolis, MN; LG Electronic, Seoul, REPUBLIC OF KOREA; M.A.R.S. (Multimedia Archive and Retrieval System), London, UNITED KINGDOM; MODE (Music-on-Demand), London, UNITED KINGDOM; MusicMarc, Inc., Jerusalem, ISRAEL; News Corp (NDS Technologies), Los Angeles, CA; Perception Digital, Ltd. Hong Kong, HONG KONG—CHINA; Sphere Multimedia, Hallandale, FL; Supertracks.com, Portland, OR; URocket, Inc., Sunnyvale, CA; Wavo Corporation, Phoenix, AZ; AudioTrack Corporation, Toronto, Ontario, CANADA; Cognicity, Inc., Edina, MN; HitHive, Inc., Seattle, WA; ARTISTdirect, Los Angeles, CA; and Musicmaker.com, Inc., Reston, VA have been dropped from the venture.

No other changes have been made in either the membership or planned activity of this group research project. Membership in the group research project remains open, and SDMI intends to file additional written notification disclosing all changes in membership.

On June 28, 1999, SDMI filed its original notification pursuant to section 6(a) of the Act. The Department of Justice published a notice in the Federal Register pursuant to section 6(b) of the Act on December 2, 1999 (64 FR 67591).

The last notification was filed with the Department on September 21, 2000. A notice was published in the Federal Register pursuant to section 6(b) of the Act on November 24, 2000 (65 FR 70614).

Constance K. Robinson,
Director of Operations, Antitrust Division.

[FR Doc. 01-13855 Filed 6-1-01; 8:45 am]

BILLING CODE 4410-11-M